DEPARTMENT OF HOUSING AND URBAN DEVELOPMENT

[Docket No. FR-4912-N-10]

Air Quality Conformity Determination for the World Trade Center Memorial and Redevelopment Plan, City of New York, New York County, NY

AGENCY: Office of the Assistant Secretary for Community Planning and Development, HUD.

ACTION: Notice of availability.

SUMMARY: In accordance with the Federal Conformity Rule, the Lower Manhattan Development Corporation (LMDC) has reviewed the air quality analysis conducted for the World Trade Center Memorial and Redevelopment Plan (the Selected Project pursuant to the June 2004 Record of Decision and Lead Agency Findings Statement under the National Environmental Policy Act and New York State Environmental Quality Review Act). LMDC is a subsidiary of the New York State Urban Development Corporation d/b/a Empire State Development Corporation (a political subdivision and public benefit corporation of the State of New York) and, as the recipient of HUD Community Development Block Grant funds appropriated for the World Trade Center disaster recovery and rebuilding efforts, acts as the responsible entity for compliance with the National Environmental Policy Act and the Clean Air Act, 42 U.S.C. 7401 et seq. [particularly sections 7506(c) and (d)] in accordance with 24 CFR 58.4 and 58.5. LMDC released its Record of Decision and Lead Agency Findings Statement for the Selected Project on June 2, 2004, which includes responses to comments received on the Final Generic Environmental Impact Statement that was subject to public comment from April 16, 2004, through May 24, 2004.

The Selected Project is located in Lower Manhattan, New York County, which has been designated by the United States Environmental Protection Agency (EPA) as a moderate non-attainment area for particulate matter less than 10 micrometers in aerodynamic diameter (PM10), and a severe non-attainment area for ozone. The area is in attainment of all other criteria pollutants: nitrogen dioxide (NO2), lead, sulfur dioxide (SO2), and carbon monoxide (CO). LMDC's review has been conducted consistent with the requirements of 40 CFR part 93, subpart B: “Determining Conformity of General Federal Actions to State or Federal Implementation Plans' issued on November 30, 1993. LMDC has determined that, during some of the construction years, annual nitrogen oxide (NOX) emissions from all the portions of the Selected Project that may be federally-funded are predicted to exceed the de minimis threshold of 25 tons per year; accordingly, LMDC prepared a general conformity determination to demonstrate that the federally-funded portions of the Selected Project conform with the ozone State Implementation Plan.

Pursuant to the requirements of 40 CFR 93.156(b), the Draft Conformity Determination: World Trade Center Memorial and Redevelopment Plan were made available for public review beginning May 7, 2004. Notice of the draft determination was published in the New York Post on May 7, 2004, and copies of the draft determination were delivered to all applicable agencies pursuant to 40 CFR 93.155 that same day. In addition, the notice of availability of the draft determination and the proposed list of activities of the federally-funded portions of the Selected Project that are presumed to conform was published in the Federal Register on May 12, 2004 (69 FR 26403). One comment letter on the draft conformity determination was received by LMDC.

As per the requirement in 40 CFR 93.153(h)(4), this notice lists the activities that are presumed to conform and the basis for these presumptions. A comprehensive presentation of the bases for the conformity presumptions is included in the report entitled “Final Conformity Determination: World Trade Center Memorial and Redevelopment Plan.” The Final Conformity Determination also includes a summary of all comments received through the end of the comment period.

FOR FURTHER INFORMATION CONTACT: Further information and a copy of the Final Conformity Determination may be obtained by contacting: William H. Kelley, Planning Project Manager, Lower Manhattan Development Corporation, One Liberty Plaza, 20th Floor, New York, NY 10006; Telephone: (212) 962-2300; Fax: (212) 962-2431; E-mail: wtcenvironmental@renewnyc.com. The Final Conformity Determination is also available on the LMDC Web site at www.RenewNYC.com in the “Planning, Design & Development” section.

SUPPLEMENTARY INFORMATION:

A. Background

The Selected Project involves the construction of a World Trade Center Memorial and memorial-related improvements, as well as commercial, retail, museum and cultural facilities, new open space areas, new street configurations, and certain infrastructure improvements at the World Trade Center Site (WTC Site) bounded by Liberty, Church, and Vesey Streets and Route 9A and the Southern Site, which comprises two city blocks south of the WTC Site and portions of Liberty Street and Washington Street. As documented in the Final Conformity Determination, the federally-funded portions of the Selected Project might include portions of the following uses: (a) Cultural uses in the northwest and southwest quadrants of the WTC Site; (b) the Memorial; (c) open spaces; (d) deconstruction of the building at 130 Liberty Street (Deutsche Bank); and (e) sub-grade construction at the Southern Site.

The Clean Air Act (CAA), as amended in 1990, defines a non-attainment area (NAA) as a geographic region that has been designated as not meeting one or more of the National Ambient Air Quality Standards (NAAQS). The Selected Project is located in Lower Manhattan, New York County, which has been designated by the EPA as a moderate NAA of the NAAQS for PM10 and severe NAA for ozone. No formal designation has been made to date regarding attainment of the NAAQS for fine particulate matter less than 2.5 micrometers in aerodynamic diameter (PM2.5), which became effective September 16, 1997. The area is in attainment of all other criteria pollutants: NO2, lead, SO2 and CO. EPA had re-designated New York City as in attainment for CO on April 19, 2002 (67 FR 19337); the CAA requires that a maintenance plan ensure continued compliance with the CO NAAQS for former NAAs.

A State Implementation Plan (SIP) is a State's plan on how it will meet the NAAQS under the deadlines established by the CAA. In November 1998, New York State submitted its Phase II Alternative Attainment Demonstration for Ozone, which addressed attainment of the NAAQS by 2007, and has recently submitted revisions to the SIP for the attainment of the one-hour ozone NAAQS. These SIP revisions included additional emission reductions that EPA requested to demonstrate attainment of the standard and also update the SIP estimates using a new EPA model to predict mobile source emissions (MOBILE6).

The general conformity requirements in 40 CFR part 93, subpart B, apply to those Federal actions that are located in a non-attainment or maintenance area, and that are not subject to transportation conformity requirements at 40 CFR part 51, subpart T, or part 93, subpart A, where the action's direct and indirect emissions have the potential to emit one or more of the six criteria pollutants (or precursors, in the case of ozone) at emission rates equal to or exceeding the prescribed rates at 40 CFR 93.153(b), or where the action encompasses 10 percent or more of a NAA or maintenance area's total emissions inventory for that pollutant. In the case of New York City, the prescribed annual rates are 25 tons of VOCs or NOX (severe ozone NAA), 100 tons of CO (maintenance area), and in New York County only, 100 tons of PM10 (moderate PM10 NAA).

LMDC, as the recipient of HUD Community Development Block Grant Funds, has determined that the total annual direct and indirect emissions of CO, VOCs and PM10 from the Selected Project that could be applicable to the general conformity regulations are less than the rates prescribed in 40 CFR part 93 that would trigger the requirement to conduct a general conformity determination. Therefore, a general conformity determination for CO and PM10 emissions is not required. Temporarily, during some of the construction years, annual NOX emissions are predicted to exceed the prescribed rate of 25 tons per year; accordingly, LMDC has concluded that a determination of conformity with the ozone SIP is required.

B. Requirements of the Conformity Determination

The purpose of the conformity analysis is to establish that the federally-funded portions of the Selected Project would conform to the New York ozone SIP, thereby demonstrating that total direct and indirect emissions of the ozone precursors, NOX and VOC, from the project would not:

• Cause or contribute to any new violation of any standard in the area,

• Interfere with provisions in the applicable SIP for maintenance of any standard,

• Increase the frequency or severity of any existing violation of any standard in any area, or

• Delay timely attainment of any standard or any required interim emission reductions or other milestones in the SIP for purposes of—

1. A demonstration of reasonably further progress (RFP),

2. A demonstration of attainment, or

3. A maintenance plan.

For the purposes of a general conformity determination, direct and indirect emissions are defined as follows (40 CFR 93.152):

• Direct Emissions: Those emissions of a criteria pollutant or its precursors that are caused or initiated by the Federal action and occur at the same time and place as the action;

• Indirect Emissions: Those emissions of a criteria pollutant or its precursors that—

1. Are caused by the Federal action, but may occur later in time and/or may be further removed in distance from the action itself but are still reasonably foreseeable; and

2. The Federal agency can practicably control and will maintain control over due to a continuing program responsibility of the Federal agency.

LMDC has concluded that the pollutants of concern regarding the ozone SIP conformity are the ozone precursors: NOX and VOCs. These precursors were the basis for the ozone SIP analysis for the ozone NAA, and are therefore used for this general conformity determination. LMDC has determined that the only predicted emissions due to the Selected Project would include direct emissions from engines operating on-site during construction, and indirect emissions from construction-related vehicles traveling to and from the site.¹

¹ Pursuant to the direction of the Interagency Consultation Group, LMDC is coordinating with the New York State Department of Transportation, New York State Department of Environmental Conservation, EPA, and the Metropolitan Planning Organization in order to make transportation data from the operational phase of the Selected Project available for inclusion in the regional transportation Best Practices model and in the regional Transportation Improvement Program (TIP).

C. Presumption of Conformity

LMDC has reviewed the air quality analysis conducted for the Selected Project consistent with the requirement of 40 CFR part 93, “Determining Conformity of General Federal Actions to State or Federal Implementation Plans (SIP).”

LMDC has determined that maximum predicted direct and indirect emissions of CO and PM10 from the federally funded portions of the Selected Project is predicted to be 58.0 and 3.2 tons per year, respectively. The CO and PM10 emissions would be below the prescribed level of 100 tons per year as defined at 40 CFR 93.153; therefore, no further conformity determination was deemed necessary for CO or PM10.

The Selected Project would be located in an area designated as a severe ozone non-attainment area under the 1-hour average ozone NAAQS. The direct and indirect emissions during construction of the federally-funded portions of the Selected Project were predicted to exceed the prescribed level for severe ozone non-attainment areas (25 tons per year of NOX). Therefore, LMDC has reviewed the local NOX and VOC emissions modeling analyses for the Selected Project and has determined the following:

• The methods for estimating direct and indirect emissions from the Selected Project meet the requirements of 40 CFR 93.159. The emissions scenario used in the air quality analysis is expected to produce the greatest off-site impacts on a daily and annual basis. Non-road engine emissions were predicted using the NONROAD model—the latest EPA model for determining emissions from non-road engines. On-road emissions were predicted using the MOBILE6 model—the latest EPA model for predicting emissions from on-road vehicles. Resuspension of road dust by on-road vehicles was estimated using the latest EPA guidance set forth in “AP-42—Compilation of Emission Factors.” All of the above emissions modeling procedures were conducted based on the latest EPA guidance.

• The federally-funded portion of the Selected Project was predicted to result in the following emissions of NOX and VOCs (total tons per year):

| Year: 2004 | Year: 2005 | Year: 2006 | Year: 2007 | Year: 2008 | Year: 2009-2013
NOX | 4.2 | 61.4 | 39.6 | 19.2 | 16.1 | None.
VOCs | 0.4 | 6.2 | 3.6 | 1.5 | 1.3 | None.

• Pursuant to 40 CFR 93.158(a)(5)(i)(A), the New York State Department of Environmental Conservation has determined and documented that the total of direct and indirect VOC and NOX emissions from the federally-funded portions of the Selected Project, together with all other emissions in the non-attainment area, would not exceed the emissions budget specified in the “New York State Implementation Plan for Ozone—Phase II Alternative Attainment Demonstration.”

• The Selected Project does not cause or contribute to any new violation, or increase the frequency or severity of any existing violation, of the standards for the pollutants addressed in 40 CFR 93.158.

• The Selected Project does not violate any requirements or milestones in the ozone SIP.

Based on these determinations, the federally-funded portions of the Selected Project are presumed to conform to the applicable SIPs for the project area. The activities that are presumed to conform include construction-related activities of the portions of the Selected Project that may be federally-funded.

Questions may be directed to the individual named above under the heading FOR FURTHER INFORMATION CONTACT.

Dated: August 9, 2004.
Nelson R. Bregón,
General Deputy Assistant Secretary for Community Planning and Development.

[FR Doc. 04-18724 Filed 8-16-04; 8:45 am]

BILLING CODE 4210-29-P